DEPARTMENT OF ENERGY

Federal Energy Regulatory Commission

Combined Notice of Filings #2

Take notice that the Commission received the following electric corporate filings:

Docket Numbers: EC15-30-000.

Applicants: DTE Electric Company, Renaissance Power, L.L.C.

Description: Application for Authorization for Disposition of Jurisdictional Facilities of DTE Electric Company and Renaissance Power, L.L.C.

Filed Date: 11/12/14.

Accession Number: 20141112-5352.

Comments Due: 5 p.m. ET 12/3/14.

Take notice that the Commission received the following exempt wholesale generator filings:

Docket Numbers: EG15-13-000.

Applicants: Iberdrola Arizona Renewables, LLC.

Description: Self-Certification of EWG Status of Iberdrola Arizona Renewables, LLC.

Filed Date: 11/12/14.

Accession Number: 20141112-5363.

Comments Due: 5 p.m. ET 12/3/14.

Docket Numbers: EG15-14-000.

Applicants: Iberdrola Texas Renewables, LLC.

Description: Self-Certification of EWG Status of Iberdrola Texas Renewables, LLC.

Filed Date: 11/12/14.

Accession Number: 20141112-5392.

Comments Due: 5 p.m. ET 12/3/14.

Docket Numbers: EG15-15-000.

Applicants: Chief Conemaugh Power, LLC.

Description: Notice of Self-Certification of Exempt Wholesale Generator Status of Chief Conemaugh Power, LLC.

Filed Date: 11/12/14.

Accession Number: 20141112-5393.

Comments Due: 5 p.m. ET 12/3/14.

Docket Numbers: EG15-16-000.

Applicants: Chief Keystone Power, LLC.

Description: Notice of Self-Certification of Exempt Wholesale Generator Status of Chief Keystone Power, LLC.

Filed Date: 11/12/14.

Accession Number: 20141112-5394.

Comments Due: 5 p.m. ET 12/3/14.

Take notice that the Commission received the following electric rate filings:

Docket Numbers: ER15-371-000.

Applicants: Alabama Power Company.

Description: § 205(d) rate filing per 35.13(a)(2)(iii): Georgia SNF Development I LGIA Filing to be effective 10/31/2014.

Filed Date: 11/10/14.

Accession Number: 20141110-5269.

Comments Due: 5 p.m. ET 12/1/14.

Docket Numbers: ER15-377-000.

Applicants: Southwest Power Pool, Inc.

Description: § 205(d) rate filing per 35.13(a)(2)(iii): 2236R4 Golden Spread Electric Cooperative, Inc. NITSA to be effective 9/1/2014.

Filed Date: 11/12/14.

Accession Number: 20141112-5207.

Comments Due: 5 p.m. ET 12/3/14.

Docket Numbers: ER15-378-000.

Applicants: Midcontinent Independent System Operator, Inc.

Description: Midcontinent Independent System Operator, Inc. submits Notice of Termination of Generator Interconnection Agreement No. 1135 for Project G117.

Filed Date: 11/12/14.

Accession Number: 20141112-5237.

Comments Due: 5 p.m. ET 12/3/14.

Docket Numbers: ER15-379-000.

Applicants: PacifiCorp.

Description: Tariff Withdrawal per 35.15: Termination of IPCo Communications Replacement Agreement to be effective 1/28/2015.

Filed Date: 11/12/14.

Accession Number: 20141112-5269.

Comments Due: 5 p.m. ET 12/3/14.

Docket Numbers: ER15-380-000.

Applicants: Lower Mount Bethel Energy, LLC.

Description: § 205(d) rate filing per 35.13(a)(2)(iii): Nov 2014 Market-Based Rate Tariff Revisions to be effective 11/13/2014.

Filed Date: 11/12/14.

Accession Number: 20141112-5309.

Comments Due: 5 p.m. ET 12/3/14.

Docket Numbers: ER15-381-000.

Applicants: Midcontinent Independent System Operator, Inc.

Description: § 205(d) rate filing per 35.13(a)(2)(iii): 2014-11-12_SA 2713 OTP-CPEC Turtle Lake T-L IA to be effective 11/13/2014.

Filed Date: 11/12/14.

Accession Number: 20141112-5324.

Comments Due: 5 p.m. ET 12/3/14.

Docket Numbers: ER15-382-000.

Applicants: PPL Brunner Island, LLC.

Description: § 205(d) rate filing per 35.13(a)(2)(iii): Nov 12 Market-Based Rate Tariff Revisions to be effective 11/13/2014.

Filed Date: 11/12/14.

Accession Number: 20141112-5330.

Comments Due: 5 p.m. ET 12/3/14.

Docket Numbers: ER15-383-000.

Applicants: PPL Colstrip I, LLC.

Description: § 205(d) rate filing per 35.13(a)(2)(iii): Nov 2014 Market-Based Rate Tariff Revisions to be effective 11/13/2014.

Filed Date: 11/12/14.

Accession Number: 20141112-5329.

Comments Due: 5 p.m. ET 12/3/14.

Docket Numbers: ER15-384-000.

Applicants: PPL Colstrip II, LLC.

Description: § 205(d) rate filing per 35.13(a)(2)(iii): Nov 2014 Market-Based Rate Tariff Revisions to be effective 11/13/2014.

Filed Date: 11/12/14.

Accession Number: 20141112-5335.

Comments Due: 5 p.m. ET 12/3/14.

Docket Numbers: ER15-385-000.

Applicants: PPL Electric Utilities Corporation.

Description: § 205(d) rate filing per 35.13(a)(2)(iii): Nov 2014 Market-Based Rate Tariff Revisions to be effective 11/13/2014.

Filed Date: 11/12/14.

Accession Number: 20141112-5336.

Comments Due: 5 p.m. ET 12/3/14.

Docket Numbers: ER15-386-000.

Applicants: PPL EnergyPlus, LLC.

Description: § 205(d) rate filing per 35.13(a)(2)(iii): Nov 2014 Market-Based Rate Tariff Revisions to be effective 11/13/2014.

Filed Date: 11/12/14.

Accession Number: 20141112-5342.

Comments Due: 5 p.m. ET 12/3/14.

Docket Numbers: ER15-387-000.

Applicants: PPL Holtwood, LLC.

Description: § 205(d) rate filing per 35.13(a)(2)(iii): Nov 2014 Market-Based Rate Tariff Revisions to be effective 11/13/2014.

Filed Date: 11/12/14.

Accession Number: 20141112-5343.

Comments Due: 5 p.m. ET 12/3/14.

Docket Numbers: ER15-388-000.

Applicants: PPL Martins Creek, LLC.

Description: § 205(d) rate filing per 35.13(a)(2)(iii): Nov 2014 Market-Based Rate Tariff Revisions to be effective 11/13/2014.

Filed Date: 11/12/14.

Accession Number: 20141112-5350.

Comments Due: 5 p.m. ET 12/3/14.

Docket Numbers: ER15-389-000.

Applicants: PPL Montana, LLC.

Description: § 205(d) rate filing per 35.13(a)(2)(iii): Nov 2014 Market-Based Rate Tariff Revisions to be effective 11/13/2014.

Filed Date: 11/12/14.

Accession Number: 20141112-5351.

Comments Due: 5 p.m. ET 12/3/14.

Docket Numbers: ER15-390-000.

Applicants: PPL New Jersey Biogas, LLC.

Description: § 205(d) rate filing per 35.13(a)(2)(iii): Nov 2014 Market-Based Rate Tariff Revisions to be effective 11/13/2014.

Filed Date: 11/12/14.

Accession Number: 20141112-5355.

Comments Due: 5 p.m. ET 12/3/14.

Docket Numbers: ER15-391-000.

Applicants: PPL New Jersey Solar, LLC.

Description: § 205(d) rate filing per 35.13(a)(2)(iii): Nov 2014 Market-Based Rate Tariff Revisions to be effective 11/13/2014.

Filed Date: 11/12/14.

Accession Number: 20141112-5361.

Comments Due: 5 p.m. ET 12/3/14.

Docket Numbers: ER15-392-000.

Applicants: PPL Renewable Energy, LLC.

Description: § 205(d) rate filing per 35.13(a)(2)(iii): Nov 2014 Market-Based Rate Tariff Revisions to be effective 11/13/2014.

Filed Date: 11/12/14.

Accession Number: 20141112-5362.

Comments Due: 5 p.m. ET 12/3/14.

Docket Numbers: ER15-393-000.

Applicants: PPL Susquehanna, LLC.

Description: § 205(d) rate filing per 35.13(a)(2)(iii): Nov 2014 Market-Based Rate Tariff Revisions to be effective 11/13/2014.

Filed Date: 11/12/14.

Accession Number: 20141112-5365.

Comments Due: 5 p.m. ET 12/3/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 12, 2014.
Nathaniel J. Davis, Sr.,
Deputy Secretary.

[FR Doc. 2014-27388 Filed 11-18-14; 8:45 am]

BILLING CODE 6717-01-P